FEDERAL COMMUNICATIONS COMMISSION

47 CFR Part 73

[DA 06-1187; MB Docket No. 06-59; RM-11319]

Radio Broadcasting Services; Gravette, Arkansas, and Southwest City, MO

AGENCY: Federal Communications Commission.

ACTION: Final rule.

SUMMARY: The Audio Division, at the request of KERM, Inc., licensee of Station KURM-FM, Channel 262A, Southwest City, Missouri, deletes Channel 262A at Southwest City, Missouri, from the FM Table of Allotments, allots Channel 262A at Gravette, Arkansas, as the community's first local FM service, and modifies the license of Station KURM-FM to specify operation on Channel 262A at Gravette, Arkansas. Channel 262A can be allotted to Gravette, Arkansas, in compliance with the Commission's minimum distance separation requirements with a site restriction of 5.4 km (3.4 miles) west of Gravette. The coordinates for Channel 262A at Gravette, Arkansas, are 36-25-54 North Latitude and 94-30-46 West Longitude.

DATES: Effective July 17, 2006.

FOR FURTHER INFORMATION CONTACT: Deborah Dupont, Media Bureau, (202) 418-2180.

SUPPLEMENTARY INFORMATION: This is a synopsis of the Commission's Report and Order, MB Docket No. 06-59, adopted May 31, 2006, and released June 2, 2006. The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, www.bcpiweb.com. The Commission will send a copy of this Report and Order in a report to be sent to Congress and the Government Accountability Office pursuant to the Congressional Review Act, see U.S.C. 801(a)(1)(A).

List of Subjects in 47 CFR Part 73

Radio, Radio broadcasting.

As stated in the preamble, the Federal Communications Commission amends 47 CFR Part 73 as follows:

PART 73—RADIO BROADCAST SERVICES

1. The authority citation for part 73 continues to read as follows:

Authority: 47 U.S.C. 154, 303, 334, 336.

§ 73.202 [Amended]

2. Section 73.202(b), the Table of FM Allotments under Arkansas is amended by adding Gravette, Channel 262A.

3. Section 73.202(b), the Table of FM Allotments under Missouri is amended by removing Southwest City, Channel 262A.

Federal Communications Commission.
John A. Karousos,
Assistant Chief, Audio Division Media Bureau.

[FR Doc. E6-9471 Filed 6-20-06; 8:45 am]

BILLING CODE 6712-01-P